DEPARTMENT OF ENERGY

Federal Energy Regulatory Commission

Combined Notice of Filings #2

Take notice that the Commission received the following electric rate filings:

Docket Numbers: ER11-1881-007; ER11-1882-007; ER11-1883-007; ER11-1885-007; ER11-1886-007; ER11-1887-007; ER11-1889-007; ER11-1890-007; ER11-1892-007; ER11-1893-007; ER11-1894-007.

Applicants: Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Notice of Non-Material Change in Status of the IWP Sellers.

Filed Date: 8/7/15.

Accession Number: 20150807-5051.

Comments Due: 5 p.m. ET 8/28/15.

Docket Numbers: ER15-2395-000.

Applicants: Tucson Electric Power Company.

Description: § 205(d) Rate Filing: Construction Agreements to be effective 10/7/2015.

Filed Date: 8/7/15.

Accession Number: 20150807-5123.

Comments Due: 5 p.m. ET 8/28/15.

Docket Numbers: ER15-2396-000.

Applicants: PacifiCorp.

Description: § 205(d) Rate Filing: Clatskanie PUD E&P Agreement Troutdale Sub to be effective 10/7/2015.

Filed Date: 8/7/15.

Accession Number: 20150807-5138.

Comments Due: 5 p.m. ET 8/28/15.

Docket Numbers: ER15-2397-000.

Applicants: PJM Interconnection, L.L.C., Public Service Electric and Gas Company.

Description: § 205(d) Rate Filing: PSE&G submits revisions to the OATT Attachment H-10A adjusting the PBOP to be effective 1/1/2015.

Filed Date: 8/7/15.

Accession Number: 20150807-5147.

Comments Due: 5 p.m. ET 8/28/15.

Docket Numbers: ER15-2398-000.

Applicants: New York Independent System Operator, Inc.

Description: § 205(d) Rate Filing: NYISO 205 joint filing re: IA among NYISO, NYSEG, TrAILCo and PJM to be effective 8/8/2015.

Filed Date: 8/7/15.

Accession Number: 20150807-5172.

Comments Due: 5 p.m. ET 8/28/15.

Docket Numbers: ER15-2399-000.

Applicants: PJM Interconnection, L.L.C., CMS Energy Resource Management Company.

Description: § 205(d) Rate Filing: Original Service Agreement No. 4174—NITSA among PJM and CMS ERM to be effective 12/31/9998.

Filed Date: 8/7/15.

Accession Number: 20150807-5178.

Comments Due: 5 p.m. ET 8/28/15.

Docket Numbers: ER15-2400-000.

Applicants: New York State Electric & Gas Corporation.

Description: Tariff Cancellation: Cancellation of Services Agreement with FirstEnergy Service Company to be effective 8/8/2015.

Filed Date: 8/7/15.

Accession Number: 20150807-5181.

Comments Due: 5 p.m. ET 8/28/15.

Docket Numbers: ER15-2401-000.

Applicants: Pennsylvania Electric Company, Trans-Allegheny Interstate Line Company, PJM Interconnection, L.L.C.

Description: § 205(d) Rate Filing: Penelec and TrAILCo submit Original SA No. 4239 and Revised SA No. 3963 to be effective 8/8/2015.

Filed Date: 8/7/15.

Accession Number: 20150807-5198.

Comments Due: 5 p.m. ET 8/28/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2015.
Nathaniel J. Davis, Sr.,
Deputy Secretary.

[FR Doc. 2015-19891 Filed 8-12-15; 8:45 am]

BILLING CODE 6717-01-P